DEPARTMENT OF THE INTERIOR

Fish and Wildlife Service

Initial Meeting of the Alaska Migratory Bird Co-management Council

AGENCY: Fish and Wildlife Service, Interior.

ACTION: Notice of meeting.

SUMMARY: The Alaska Migratory Bird Co-management Council has scheduled its first meeting to begin the process of recommending regulations for the spring/summer migratory bird subsistence harvest for the period beginning March 10, 2002. At this meeting the Co-management Council will approve its by-laws, finalize an operations manual for Council members, elect officers, review resource information presented by staff of the Alaska Department of Fish and Game and the U.S. Fish and Wildlife Service, and establish regulations frameworks for seven geographic regions.

DATES: The Co-management Council will meet October 30-November 1, 2000.

ADDRESSES: The meeting will be conducted at the Hawthorn Suites Hotel at 1110 W. 8th Avenue in Anchorage, Alaska.

FOR FURTHER INFORMATION CONTACT: For additional information call Mimi Hogan at 907/786-3673 or Bob Stevens at 907/786-3499. Individuals with a disability who may need special accommodations in order to participate in the public comment portion of the meeting should call one of the above numbers.

SUPPLEMENTARY INFORMATION: The U.S. Fish and Wildlife Service formed the Alaska Migratory Bird Co-Management Council, which includes Native, State, and Federal representatives as equals, by means of a Notice of Decision published in the Federal Register, 65 FR 16405-16409, March 28, 2000. Amended migratory bird treaties with Canada and Mexico required the formation of such a management body. The Co-management Council will make recommendations for, among other things, regulations for spring/summer harvesting of migratory birds in Alaska. In addition to creation of the Co-managment Council, the Notice of Decision identified seven geographic regions. Each region will submit to the Co-management Council requests for specific regulations for its area. The Co-management Council will then develop recommendations for statewide regulations and submit them to the Fish and Wildlife Service for approval.

The initial meeting of the Co-management Council will begin on Monday, October 30 at 1 p.m. Sessions on October 31 and November 1 will begin at 8:00 a.m. The public is invited to attend. The Co-management Council will provide opportunities for public comment on agenda items. Agendas will be available at the door.

Dated: September 20, 2000.
David B. Allen,
Regional Director, Anchorage, Alaska.

[FR Doc. 00-25402 Filed 10-3-00; 8:45 am]

BILLING CODE 4310-55-M